SOCIAL SECURITY ADMINISTRATION

20 CFR Part 404

[Docket No. SSA-2014-0016]

RIN 0960-AH66

Unsuccessful Work Attempts and Expedited Reinstatement Eligibility; Correction

AGENCY: Social Security Administration.

ACTION: Final rules; correction.

SUMMARY: We published a document in the Federal Register revising our rules on October 17, 2016. That document inadvertently omitted a corresponding technical change to § 404.1592f(a) when § 404.1592c(a) was amended with the final rule publication. By making this technical correction we will also need to redesignate the amendatory instructions to incorporate the missing section changes to § 404.1592f(a). This document corrects the final regulation by making these technical corrections.

DATES: The corrections are effective April 17, 2017.

FOR FURTHER INFORMATION CONTACT: Kristine Erwin-Tribbitt, Office of Retirement and Disability Policy, Office of Research, Demonstration, and Employment Support, Social Security Administration, 6401 Security Boulevard, Robert Ball Building 3-A-26, Baltimore, MD 21235-6401, (410) 965-3353. For information on eligibility or filing for benefits, call our national toll-free number, 1-800-772-1213 or TTY 1-800-325-0778, or visit our Internet site, Social Security Online, at http://www.socialsecurity.gov.

SUPPLEMENTARY INFORMATION: We published a final rule in the Federal Register of October 17, 2016 (81 FR 71367) titled, Unsuccessful Work Attempts and Expedited Reinstatement Eligibility. The final rule, among other things, amended 20 CFR parts 404 and 416. We inadvertently omitted a corresponding technical change to § 404.1592f(a) when § 404.1592c(a) was amended with the final rule publication. This document amends and corrects the final regulation.

(Catalog of Federal Domestic Assistance Program Nos. 9601, Social Security—Disability Insurance; 96.006, Supplemental Security Income; 96.008, Social Security—Work Incentives Planning and Assistance Program.)

In FR Doc. 2016-24873 appearing on page 71369 in the Federal Register of Monday, October 17, the following corrections are made:

Corrections

1. On page 71369, in the third column, redesignate amendatory instructions 6 through 9 as 7 through 10 and add new amendatory instruction 6 to read as follows:

6. Amend § 404.1592f by revising paragraph (a) to read as follows:

§ 404.1592f How do we determine reinstated benefits?

(a) If you meet the requirements for reinstatement under § 404.1592c(a), we will then consider in which month to reinstate your entitlement. We will reinstate your entitlement with the earliest month, in the 12-month period that ends with the month before you filed your request for reinstatement, that you would have met all of the requirements under § 404.1592c(a) if you had filed your request for reinstatement in that month. Otherwise, you will be entitled to reinstated benefits beginning with the month in which you filed your request for such benefits if you did not perform substantial gainful activity in that month. If you performed substantial gainful activity in the month of filing, but are no longer able to perform substantial gainful activity, we will reinstate your benefits with the month after the month you filed your request for reinstatement. We cannot reinstate your entitlement for any month prior to January 2001.

* * * * *

Carolyn W. Colvin,
Acting Commissioner of Social Security.

[FR Doc. 2017-00076 Filed 1-19-17; 8:45 am]

BILLING CODE 4191-02-P